DEPARTMENT OF LABOR

Employment and Training Administration

[TA-W-53,569]

Irving Tanning Company, Hartland, Maine; Amended Certification Regarding Eligibility To Apply for Worker Adjustment Assistance and Alternative Trade Adjustment Assistance

In accordance with section 223 of the Trade Act of 1974 (19 U.S.C. 2273), and under section 246 of the Trade Act of 1974, as amended, the Department of Labor issued a Certification of Eligibility to Apply for Worker Adjustment Assistance and Alternative Trade Adjustment Assistance on December 11, 2003, applicable to workers of Irving Tanning Company located in Hartland, Maine. The notice will soon be published in the Federal Register.

At the request of the State Agency, the Department reviewed the certification for workers of the subject firm. The workers produce leather.

The review shows that all workers of Irving Tanning Company, Hartland, Maine, were previously certified eligible to apply for adjustment assistance under petition number TA-W-39,075, which expired on July 13, 2003.

Therefore, in order to avoid an overlap in worker group coverage, the Department is amending the November 6, 2002, impact date established for TA-W-53,569, to read July 14, 2003.

The amended notice applicable to TA-W-53,569 is hereby issued as follows:

All workers of Irving Tanning Company, Hartland, Maine, who became totally or partially separated from employment on or after July 14, 2003, through December 11, 2005, are eligible to apply for adjustment assistance under section 223 of the Trade Act of 1974, and are also eligible to apply for alternative trade adjustment assistance under section 246 of the Trade Act of 1974, as amended.

Signed at Washington, DC, this 13th day of January, 2004.
Linda G. Poole,
Certifying Officer, Division of Trade Adjustment Assistance.

[FR Doc. E4-134 Filed 1-27-04; 8:45 am]

BILLING CODE 4510-13-P